DEPARTMENT OF DEFENSE

GENERAL SERVICES ADMINISTRATION

NATIONAL AERONAUTICS AND SPACE ADMINISTRATION

[Docket 2012-0076; Sequence 29; OMB Control No. 9000-0048]

Federal Acquisition Regulation; Submission for OMB Review; Authorized Negotiators

AGENCY: Department of Defense (DOD), General Services Administration (GSA), and National Aeronautics and Space Administration (NASA).

ACTION: Notice of request for an extension to an existing OMB clearance.

SUMMARY: Under the provisions of the Paperwork Reduction Act, the Regulatory Secretariat will be submitting to the Office of Management and Budget (OMB) a request to review and approve an extension of a previously approved information collection requirement regarding Authorized Negotiators. A notice was published in the Federal Register at 77 FR 45613, on August 1, 2012. One comment was received.

Public comments are particularly invited on: Whether this collection of information is necessary for the proper performance of functions of the Federal Acquisition Regulations (FAR), and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before December 5, 2012.

ADDRESSES: Submit comments identified by Information Collection 9000-0048, Authorized Negotiators, by any of the following methods:

• Regulations.gov: http://www.regulations.gov. Submit comments via the Federal eRulemaking portal by searching the OMB control number. Select the link “Submit a Comment” that corresponds with “Information Collection 9000-0048, Authorized Negotiators”. Follow the instructions provided at the “Submit a Comment” screen. Please include your name, company name (if any), and “Information Collection 9000-0048, Authorized Negotiators” on your attached document.

• Fax: 202-501-4067.

• Mail: General Services Administration, Regulatory Secretariat (MVCB), 1275 First Street NE., Washington, DC 20417. ATTN: Hada Flowers/IC 9000-0048, Authorized Negotiators.

Instructions: Please submit comments only and cite Information Collection 9000-0048, Authorized Negotiators, in all correspondence related to this collection. All comments received will be posted without change to http://www.regulations.gov, including any personal and/or business confidential information provided.

FOR FURTHER INFORMATION CONTACT: Mr. Edward Loeb, Procurement Analyst, Office of Governmentwide Acquisition Policy, GSA, (202) 501-0650 or via email to Edward.loeb@gsa.gov.

SUPPLEMENTARY INFORMATION:

A. Purpose

Per FAR 52.215-1(c)(2)(iv), firms offering supplies or services to the Government under negotiated solicitations must provide the names, titles, and telephone numbers of authorized negotiators to assure that discussions are held with authorized individuals. The information collected is referred to before contract negotiations and it becomes part of the official contract file.

B. Analysis of Public Comments

Comment: One respondent submitted a public comment on the extension of the previously approved information collection. The comment indicated a need to correct the FAR cite in paragraph A of the supplementary information.

Response: Adopted.

C. Annual Reporting Burden

Respondents: 68,000.

Responses per Respondent: 8.

Total Responses: 544,000.

Hours per Response: .017.

Total Burden Hours: 9248.

Obtaining Copies of Proposals: Requesters may obtain a copy of the information collection documents from the General Services Administration, Regulatory Secretariat (MVCB), 1275 First Street NE., Washington, DC 20417, telephone (202) 501-4755. Please cite OMB Control No. 9000-0048, Authorized Negotiator, in all correspondence.

Dated: October 31, 2012.
William Clark,
Acting Director, Federal Acquisition Policy Division, Office of Governmentwide Acquisition Policy, Office of Acquisition Policy, Office of Governmentwide Policy.

[FR Doc. 2012-26975 Filed 11-2-12; 8:45 am]

BILLING CODE 6820-EP-P